DEPARTMENT OF TRANSPORTATION

Coast Guard

[USCG 2002-12690]

Collection of Information Under Review by Office of Management and Budget (OMB): OMB Control Numbers 2115-0139, 2115-0035, 2115-0598, 2115-0556, and 2115-0111

AGENCY: Coast Guard, DOT.

ACTION: Request for comments.

SUMMARY: In compliance with the Paperwork Reduction Act of 1995, the Coast Guard intends to seek the approval of OMB for the renewal of five Information Collection Requests (ICRs). The ICRs comprise (1) Ships' Stores Certification for Hazardous Materials Aboard Ships; (2) Report of Defect or Noncompliance and Report of Campaign Update; (3) Ballast Water Management for Vessels with Ballast Tanks Entering U.S. Waters; (4) (a) Reports of MARPOL 73/78 Oil, Noxious Liquid Substances (NLSs) and Garbage Discharge, (b) Application for Equivalents, Exemptions, and Alternatives, and (c) Voluntary Reports of Pollution Sightings; and (5) Course Approvals for Merchant Marine Training Schools. Before submitting the ICRs to OMB, the Coast Guard is inviting comments on them as described below.

DATES: Comments must reach the Coast Guard on or before September 30, 2002.

ADDRESSES: To make sure that your comments and related material do not enter the docket [USCG 2002-12690] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. DOT, 202-366-5149, for questions on the docket.

Request for Comments

The Coast Guard encourages interested persons to submit comments. Persons submitting comments should include their names and addresses, identify this document by docket number [USCG 2002-12670], and give the reasons for the comments. Please submit all comments and attachments in an unbound format no larger than 8½ by 11 inches, suitable for copying and electronic filing. Persons wanting acknowledgment of receipt of comments should enclose stamped self-addressed postcards or envelopes.

Information Collection Requests

1. Title: Ships' Stores Certification for Hazardous Materials Aboard Ships.

OMB Control Number: 2115-0139.

Summary: The information is needed to ensure that personnel aboard ships become aware of the proper usage and stowage for certain hazardous materials. The form provides for waivers of products in special classes of DOT hazards.

Need: 46 U.S.C. 3306 authorizes the Coast Guard to prescribe regulations for the transportation, stowage, and use of ships' stores and supplies of a dangerous nature. 46 CFR part 147 prescribes the regulations for hazardous ships' stores.

Respondents: Suppliers and manufacturers of hazardous products used on ships.

Frequency: On occasion.

Burden Estimate: The estimated burden is 6 hours a year.

2. Title: Report of Defect or Noncompliance and Report of Campaign Update.

OMB Control Number: 2115-0035.

Summary: The information in this report is needed to ensure manufacturers' compliance with requirements for notifying consumers of defects in recreational boats, inboard engines, outboard motors, and sterndrive units.

Need: 46 U.S.C. 4310 requires manufacturers of boats and engines to notify consumers, both of failures to comply with applicable standards of the Coast Guard for safety and of defects that create a substantial risk of personal injury to the public. 46 U.S.C. 4310 and 33 CFR part 179 prescribe requirements for certain reports to the Coast Guard concerning potential impacts on recreational boating safety, how problems will be corrected, and progress in notifying owners and repairing affected units.

Respondents: Manufacturers of recreational boats, inboard engines, outboard motors, and sterndrive units.

Frequency: Quarterly.

Burden Estimate: The estimated burden is 328 hours a year.

3. Title: Ballast Water Management for Vessels with Ballast Tanks Entering U.S. Waters.

OMB Control Number: 2115-0598.

Summary: The information is needed to carry out the reporting requirements of 16 U.S.C. 4711 regarding the management of ballast water, to prevent the introduction and spread of aquatic-nuisance species into U.S. waters.

Need: The information is needed to ensure compliance with the requirements in 33 CFR Part 151, subparts C and D. It is also needed for research and periodic reporting to Congress.

Respondents: Owners and operators of certain vessels.

Frequency: On occasion.

Burden Estimate: The estimated burden is 33,500 hours a year.

4. Title: (a) Reports of MARPOL 73/78 Oil, Noxious Liquid Substances (NLS) and Garbage Discharge; (b) Application for Equivalents, Exemptions, and Alternatives; and (c) Voluntary Reports of Pollution Sightings.

OMB Control Number: 2115-0556.

Summary: The information is needed by the Coast Guard to ensure compliance with pollution-prevention standards and to respond to and investigate pollution incidents.

Need: 33 U.S.C. 1321 and 1903 authorize the Coast Guard to establish regulations to promote the protection of the environment. 33 CFR subchapter O (parts 151 to 159) sets forth these regulations.

Respondents: Owners and operators of vessels for (a) and (b), and the public for (c).

Frequency: On occasion.

Burden Estimate: The estimated burden is 10 hours a year.

5. Title: Course Approvals for Merchant Marine Training Schools.

OMB Control Number: 2115-0111.

Summary: The information is needed to ensure that merchant marine training schools meet minimal statutory requirements. The information is used to approve the curricula, facilities, and faculties for these schools.

Need: 46 U.S.C. 7315 authorizes an applicant for a license or document applicant to substitute the completion of an approved course for a portion of the required sea service. 46 CFR 10.302 prescribes the Coast Guard regulations for course approval.

Respondents: Merchant marine training schools.

Frequency: Five years for reporting; one year for recordkeeping.

Burden Estimate: The estimated burden is 16,988 hours a year.

Dated: July 5, 2002.
N.S. Heiner,
Acting, Director of Information and Technology.

[FR Doc. 02-19361 Filed 7-30-02; 8:45 am]

BILLING CODE 4910-15-P